DEPARTMENT OF HOUSING AND URBAN DEVELOPMENT

[Docket No. FR-5030-FA-15]

Announcement of Funding Awards; Fair Housing Initiatives Program—Fiscal Year 2006

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the Super Notice of Funding Availability (SuperNOFA) for the Fair Housing Initiatives Program (FHIP) for Fiscal Year (FY) 2006. This announcement contains the names and addresses of those award recipients selected for funding based on the rating and ranking of all applications and the amount of the awards.

FOR FURTHER INFORMATION CONTACT: Myron Newry, Director, FHIP Support Division, Office of Programs, Room 5230, 451 Seventh Street, SW., Washington, DC 20410-2000, telephone number (202) 708-2215 (this is not a toll-free number). A telecommunications device (TTY) for hearing and speech impaired persons is available at (800) 927-9275 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR Part 125.

The Department announced under separate solicitations in the Federal Register on January 20, 2006 (71 FR 3382-3404) and March 8, 2006 (71 FR 11712-11717 and 11784-11799), the availability of approximately $18,100,000 out of a FY 2006 appropriation of $20,000,000 and any potential recapture, to be utilized for FHIP projects and activities with approximately $1,900,000 designated for continuation of contracts with activities for the fifth option year under the Accessibility First Project, formerly the Project for Training and Technical Assistance Guidance (PATTG) and other contracts. However, Pub. L. 109-148 mandated a 1 percent rescission and, accordingly, $200,000.00 was charged against the initial appropriation resulting in a reduced appropriation of $19,800,000. Subsequently, the amount available for contracts was reduced to $1,700,000.00, and any potential recapture.

Additionally, on June 14, 2006 (71 FR 34385), the Department extended the application submission date for applicants submitting proposals from areas affected by the President's Emergency Declaration for the State of Maine, the Commonwealth of Massachusetts, and the State of New Hampshire. Funding availability follows for discretionary grants: the Private Enforcement Initiative (PEI/$13,900,000) and the Education and Outreach Initiative (EOI) ($4,200,000).

The Catalog of Federal Domestic Assistance Number for currently funded Initiatives under the Fair Housing Initiatives Program is 14.408.

This notice announces the award of $18,100,000 to 102 organizations that submitted applications under the FY2006 funding round or received continuation funding under the PEI Performance-Based Funding Component. The Department reviewed, evaluated and scored the applications received based on the criteria in the FY2006 SuperNOFA. As a result, and in accordance with section 102(a)(4)(C) of the Department of Housing and Urban Development Reform Act of 1989 (103 Stat. 1987, 42 U.S.C. 3545), the Department is hereby publishing details concerning the recipients of funding awards in Appendix A of this document.

Dated: December 20, 2006.
Kim Kendrick,
Assistant Secretary for Fair Housing and Equal Opportunity.

Appendix A.—Fair Housing Initiatives Program Awards FY2006
Applicant name | Contact person | Region | Award amount ($)
Education and Outreach Initiative/General Component
City of Newton, 1000 Commonwealth Avenue, Newton Centre, MA 02459 | Patricia Guditz, ph. 617-796-1156, fx. 617-796-1157 | 1 | $98,044.00
Rhode Island Housing and Mortgage Finance Corp., 44 Washington Street, Providence, RI 02903 | Jo-Ann Ryan, ph. 401-457-1258, fx. 401-457-1137 | 1 | 100,000.00
Champlain Valley Office of Economic Opportunity, P.O. Box 163, Burlington, VT 05402 | Robert Meehan, ph. 802-651-0551, fx. 802-651-4179 | 1 | 100,000.00
New Jersey Citizen Action, 400 Main Street, Hackensack, NJ 07601 | Phyllis Salowe-Kaye, ph. 201-488-2804, fx. 201-488-1253 | 2 | 100,000.00
Neighborhood Economic Development Advocacy Project, Inc., 73 Spring Street, Suite 506, New York, NY 10012 | Sarah Ludwig, ph. 212-680-5100, fx. 212-680-5104 | 2 | 100,000.00
St. Martin Center, Inc., 1701 Parade Street, Erie, PA 16503 | David Pesch, ph.814-452-6113, fx.814-452-9483 | 3 | 99,863.00
Delaware Community Reinvestment Action Council, Inc., 601 N. Church Street, Wilmington, DE 19801 | Rashmi Rangan, ph. 302-654-5024, fx. 302-654-5046 | 3 | 50,000.00
Office of Human Affairs, 2410 Wickham Avenue, Newport News, VA | Wendell Shelton, ph.757-247-0379, fx. 757-247-6527 | 3 | 60,415.00
American Environmental Justice Project, 16 West 25th Street, Baltimore, MD 21218 | Joe Cox, ph. 410-735-3373, fx. 410-735-3383 | 3 | 99,716.00
American Institute for Social Justice, 739 8th Street, SE, Washington, DC 20003 | Valerie Coffin, ph. 410-735-3373, fx. 410-735-3383 | 3 | 99,080.00
Fair Housing Agency of Alabama, 475 Azalea Road #124, Mobile, AL 36609 | Enrique Larrion, ph. 251-660-7733, fx. 251-660-7734 | 4 | 99,905.00
Greenville County Human Relations Commission, 301 University Ridge, Suite 1600, Greenville, SC 29601 | Sharon Smathers, ph. 864-467-7095, fx. 864-467-5965 | 4 | 99,992.00
JC Visions and Associates, Inc., P.O. Box 1972, Hinesville, GA 31310 | Dana Ingram, ph. 912-877-4243, fx. 912-877-4274 | 4 | 94,950.00
Legal Services of North Florida, Inc., 2119 Delta Boulevard, Tallahassee, FL 32302 | John Fenno, ph. 850-385-9007, fx. 850-250-6540 | 4 | 100,000.00
Housing Education and Economic Development, 3405 Medgar Evers Boulevard, Jackson, MS 39206 | Charles Harris, ph. 601-981-1960, fx. 601-981-0258 | 4 | 96,000.00
Minneapolis Urban League, 2100 Plymouth Avenue North, Minneapolis, MN 55411 | Shawne Monahan ph. 612-302-3103 fx. 612-521-1444 | 5 | 99,937.00
Community Action Agency, 1214 Greenwood Avenue, Jackson, MI 49203 | Katherine Martin, ph.517-784-4800, fx. 517-784-6785 | 5 | 100,000.00
Prairie State Legal Services, Inc., 975 North Main Street, Rockford, IL 61103 | David Wolowitz, ph. 630-690-2130, fx. 630-690-2279 | 5 | 100,000.00
Crawford Sebastian, Community Development Council, Inc., 4831 Amour Street, Fort Smith, AR 72956 | Weldon Ramey, ph. 479-784-9829, fx. 479-784-9029 | 6 | 34,088.00
Consumer Credit Counseling Service of Greater Dallas, Inc., 8737 King George Drive, Dallas, TX 75235 | Bettye Banks, ph. 214-540-6860, fx. 214-540-6678 | 6 | 99,973.00
New Mexico ACORN Fair Housing, 411 Bellemah NW, Albuquerque, NM 87102 | Mathew Henderson, ph. 505-242-7411, fx. 410-735-3383 | 6 | 99,724.00
Kansas Legal Services, 712 Kansas Avenue, Suite 200, Topeka, KS 66603 | Theresa Shively, ph. 785-233-2068, fx. 785-354-8311 | 7 | 99,926.00
Urban League of Metropolitan St. Louis, 3701 Grandel Square, St. Louis, MO 63108 | Brenda Wrench, ph. 314-615-3650, fx. 314-531-7462 | 7 | 100,000.00
High Plains Community Development Corp, Inc., 130 East 2nd Street, Chadron, NE 69337 | Marguerite Vey-Miller, ph. 308-432-4346, fx. 309-432-4655 | 7 | 97,277.00
Colorado Coalition for the Homeless, 2111 Champs Street, Denver, CO 80205 | John Parvensky, ph. 303-293-2217 | 8 | 100,000.00
Ogden City Corporation, 2549 Washington Boulevard, #120, Ogden, UT 84401 | Karen Thurber, ph. 801-629-8943, fx. 801-629-8996 | 8 | 77,310.00
By-Design Financial Solutions, 5628 East Slauson Avenue, Los Angeles, CA 90040 | Martha Lucey, ph.559-455-5525, fx. 559-455-1405 | 9 | 62,993.00
Greater Napa Fair Housing Center, 601 Cabot Way Napa, CA 94559 | Stephen Cogswell, ph. 707-224-9720, fx. 707-224-1566 | 9 | 99,990.00
Idaho Legal Aid Services, Inc., 310 North 5th Street, Boise, ID 83702 | James Cook, ph. 208-345-0106, fx. 208-345-2561 | 10 | 80,961.00
Kitsap County Consolidated Housing Authority, 9307 Bayshore Drive NW, Silverdale, WA 98383 | Deborah Howard, ph. 360-535-6151 | 10 | 100,000.00
Legal Aid Services of Oregon, 921 SW Washington Street, Suite 570, Portland, OR 97205 | Thomas Matsuda, ph. 503-471-1159, fx. 503-417-0147 | 10 | 100,000.00
Education and Outreach Initiative/Disability Component
Three Rivers Center for Independent Living, Inc., 900 Rebecca Avenue, Wilkinsburg, PA 15221 | Rick McWilliams, ph. 412-371-7700, fx. 412-371-9430 | 3 | $51,489.00
Legal Aid Society of Palm Beach County, Inc., 423 Fern Street, Suite 200, W. Palm Beach, FL 33401 | Robert Bertisch, ph. 561-655-8944, fx. 561-655-5269 | 4 | 100,000.00
University of Southern Mississippi, 118 College Drive, #5157, Hattiesburg, MS 39406 | Constance Wyldmon, ph.601-266-4119 | 4 | 100,000.00
Mainstreaming Consultants, dba Program for Accessibility, 5801 Executive Center Drive, Suite 101, Charlotte, NC 28212 | Julia Sain, ph.704-537-0550, fx. 704-537-0507 | 4 | 88,022.00
Coalition on Homelessness and Housing in Ohio, 175 S Third Street, Suite 250, Columbus, OH 43215 | Spencer Wells, ph. 614-260-1984, fx. 614-260-1060 | 5 | 100,000.00
Disability Rights Wisconsin, 16 North Carroll Street, Suite 400, Madison, WI 53703 | Joan Karan, ph. 608-267-0214, fx. 608-267-0368 | 5 | 100,000.00
Housing Research & Advocacy Center, 3631 Perkin Avenue, Cleveland, OH 44114 | Jeffrey Dillman, ph. 216-361-9240, fx. 216-361-1290 | 5 | 100,000.00
Advocacy Center, 1010 Common Street, Suite 2600, New Orleans, LA 70112 | Lois Simpson, ph. 504-522-2337, fx. 504-522-5507 | 6 | 100,000.00
City of Billings, 510 North Broadway, 4th Floor, Billings, MT 59103 | Brenda Beckett, ph. 406-657-8286, fx. 406-657-8327 | 8 | 99,987.00
Aids Legal Referral Panel, San Francisco Bay Area, 1663 Mission Street, Suite 500, San Francisco, CA 94103 | Bill Hirsh, ph. 415-701-1200, fx. 415-701-1400 | 9 | 60,502.00
Education and Outreach Initiative/Subprime Lending Component
Community Impact Legal Services, 1003 East Lincoln Highway, Coatesville, PA 19320 | Carolyn Johnson, ph. 610-380-7111, fx. 610-380-9030 | 3 | $50,000.00
Housing Counseling Services, Inc., 2410 17th Street, NW, Suite 100, Washington, DC 20009 | Marian Siegel, ph. 202-667-7006, fx. 202-667-1939 | 3 | 50,000.00
Phoenix Housing and Counseling Non-Profit, Inc., 1640 Porter Street, Detroit, MI 48216 | Marguerite Evans, ph. 313-964-4207, fx. 313-964-3861 | 5 | 50,000.00
ACORN Associates, Inc., 411 Bellemah NW, Albuquerque, NM 87102 | Camella Phillips, ph.718-246-7900, fx.410-735-3383 | 6 | 49,997.00
Legal Aid Foundation of Los Angeles, 1102 Crenshaw Boulevard, Los Angeles, CA 90019 | Mary Ann Heimann, ph. 323-801-7945, fx. 323-801-7945 | 9 | 50,000.00
Education and Outreach Initiative/Hurricane Katrina Component
ACORN Community Land Association Of Louisiana, 1024 Elysian Fields Avenue New Orleans, LA 70117 | Jeff Kalson, ph. 504-943-0044, fx. 504-943-3842 | 6 | 100,000.00
Texas Workforce Commission, 101 East 15th Street, Austin, TX 78778 | DeDe Webb, ph. 512-936-6049 | 6 | 100,000.00
Private Enforcement Initiative/General Component
Housing Discrimination Project, Inc., 57 Suffolk Street, Holyoke, MA 01040 | Jamie Williamson, ph. 413-539-9796 | 1 | 275,000.00
Fair Housing Counsel of Northern New Jersey, 131 Main Street, Suite 140, Hackensack, NJ 07601 | Lee Porter, ph. 201-489-3552, fx. 201-489-8472 | 2 | 275,000.00
Legal Assistance of Western New York, Inc., 17 West Main Street, Suite 400, Rochester, NY 14614 | Louis Priesto, ph. 585-325-2520, fx. 585-325-2559 | 2 | 221,800.00
Fair Housing Partnership of Greater Pittsburg, Inc., 2840 Liberty Avenue, Suite 205, Pittsburgh, PA 15222 | Peter Harvey, ph. 412-391-2535, fx. 412-391-2647 | 3 | 275,000.00
Fair Housing Center of the Gulf Coast of Mississippi, 15105 Lemoyne Boulevard, Suite 1-7, Biloxi, MS 39532 | Toshja Brown, ph. 228-396-4008, fx. 228-396-4857 | 4 | 126,634.66
Housing Opportunities Project for Excellence, Inc., 18441 NW 2nd Avenue, Suite 218, Miami, FL 33169 | Keenya Robertson, ph. 305-651-4673 | 4 | 275,000.00
Mississippi Center for Legal Services, Inc., 111 East Front Street, Hattiesburg, MS 39401 | Sam Buchanan, ph. 601-545-2950, fx. 601-545-2935 | 4 | 275,000.00
Mobile Fair Housing Center, Inc., P. O. Box 161202, Mobile, AL 36616 | Teresa Bettis, ph. 251-479-1532, fx. 251-479-1488 | 4 | 274,971.00
Access Living of Metropolitan Chicago, 614 West Roosevelt Road, Chicago, IL 60607 | Daisy Feidt, ph. 312-253-7000, fx. 312-253-7001 | 5 | 275,000.00
Fair Housing Center of Southeastern Michigan, P. O. Box 7825, Ann Arbor, MI 48107 | Pamela Kisch, ph. 734-994-3426 | 5 | 125,500.00
Fair Housing Resource Center, Inc., 54 South State Street, Suite 303, Painesville, OH 44077 | Patricia Kidd, ph. 440-392-0147, fx. 440-392-0148 | 5 | 275,000.00
Housing Advocates, Inc., 3214 Prospect Avenue, East, Cleveland, OH 44115 | Edward Kramer, ph. 216-431-7400, fx. 216-431-6149 | 5 | 272,035.45
Housing Opportunities Made Equal Of Greater Cincinnati, Inc., 2400 Reading Road, Suite 404, Cincinnati, OH 45202 | Elizabeth Brown, ph. 513-721-4663, fx. 513-721-1642 | 5 | 271,870.22
Interfaith Housing Center of the Northern Suburbs, 620 Lincoln Avenue, Winneka, IL 60093 | Gail Schechter, ph. 847-501-5760, fx. 847-501-5722 | 5 | 274,248.00
Legal Services of Eastern Michigan, 436 South Saginaw Street, Flint, MI 48502 | Teresa Trantham, ph. 810-234-2621, fx.810-234-9039 | 5 | 204,826.00
Austin Tenants Council, Inc., 1619 E. Cesar Chavez Street, Austin, TX 78702 | Katherine Stark, ph. 512-474-7007, fx. 512-474-7007 | 6 | 274,773.00
Greater Houston Fair Housing Center, Inc., 1900 Kane, Room 111, P. O. Box 292, Houston, TX 77001 | Daniel Bustamante, ph. 713-641-3247 | 6 | 274,000.00
Greater New Orleans Fair Housing Action Center, 228 St. Charles Avenue, Suite 1035, New Orleans, LA 70130 | James Perry, ph. 877-445-2100 | 6 | 275,000.00
Metropolitan Fair Housing Council of Greater Oklahoma City, 1500 NE 4th Street, Suite 204, Oklahoma City, OK 73117 | George Wesley, ph.405-232-3247, fx. 405-232-5119 | 6 | 274,766.00
San Antonio Fair Housing Council, Inc., 4203 Woodcock Drive, Suite 218, San Antonio, TX 78228 | Sandra Tamez, ph. 210-733-3247, fx. 210-733-6670 | 6 | 269,049.00
Fair Housing of the Dakotas, 533 Airport Road, Suite C, Bismarck, ND 58504 | Amy Schauer-Nelson, ph. 701-221-2530, fx. 701-221-9597 | 8 | 214,769.00
Fair Housing Council of Central California, 560 East Shields Avenue, Suite 103, Fresno, CA 93704 | Marilyn Borelli, ph. 559-244-2950, fx. 559-244-2956 | 9 | 275,000.00
Fair Housing of Marin, 615 B Street, San Rafael, CA 94901 | Nancy Kenyon, ph. 415-457-5025, fx. 415-457-6382 | 9 | 275,000.00
Inland Mediation Board, 60 East 9th Street, Upland, CA 91786 | Lynne Anderson, ph. 909-984-2254, fx. 909-984-0274 | 9 | 275,000.00
Legal Aid Society of Hawaii, 924 Bethal Street, Honolulu, HI 96813 | Nalani Fujimori, ph. 808-536-4302 | 9 | 275,000.00
Orange County Fair Housing Council, Inc., 201 South Broadway, Santa Ana, CA 92701 | David Levy, ph. 714-569-0823 | 9 | 157,500.00
Sentinel Fair Housing, 510 Sixteenth Street, Suite 560, Oakland, CA 94612 | Katura Rutan, ph. 510-836-2687, fx. 510-836-0461 | 9 | 274,962.00
Fair Housing Council of Oregon, 1020 SW Taylor Street, #700, Portland, OR 97205 | Pegge McGuire, ph. 503-223-3542, fx. 503-223-3396 | 10 | 268,819.00
Northwest Fair Housing Alliance, 35 W. Main, Suite 200, Spokane, WA 99201 | Marley Eichstaedt, ph. 509-325-2665, fx. 509-325-2716 | 10 | 275,000.00
Private Enforcement Initiative/Performance Based Component FY2005 Continuation
Fair Housing Center of Greater Boston, 59 Temple Place, Suite 1105, Boston, MA 02111 | David Harris, ph. 617-399-0492, fx. 617-399-0492 | 1 | 274,166.67
Fair Housing Council of Montgomery County, 105 East Glenside Avenue, Glenside, PA 19038 | Elizabeth Albert, ph. 215-576-7711, fx. 215-576-1509 | 3 | 270,000.00
Fair Housing Council of Suburban Philadelphia, Inc., 225 South Chester Street, Suite 1, Swarthmore, PA 19081 | James Berry, ph. 610-604-4411, fx. 610-604-4424 | 3 | 275,000.00
Fair Housing Continuum, Inc., 840 N Cocoa Boulevard, Suite F, Cocoa, FL 32922 | David Baade, ph. 321-633-4451, fx. 321-633-5198 | 4 | 275,000.00
Jacksonville Area Legal Aid, Inc., 126 West Adam Street, Jacksonville, FL 32202 | Michael Figgins, ph. 904-356-8371, fx. 904-356-8780 | 4 | 274,972.67
Lexington Fair Housing Council, 205 East Reynolds Road, Suite E, Lexington, KY 40517 | Author Crosby, ph. 859-971-8067, fx. 859-971-1652 | 4 | 205,258.00
West Tennessee Legal Services, Inc., 210 West Main Street, Jackson, TN 38302 | Carol Gish, ph. 731-426-1309 | 4 | 275,000.00
HOPE Fair Housing Center, 2100 Manchester Road, #1070 B, Wheaton, IL 60187 | Bernard Kleina, ph. 630-690-6500, fx. 630-690-6586 | 5 | 274,702.33
Metropolitan Milwaukee Fair Housing Council, 600 East Mason Street, Suite 200, Milwaukee, WI 53202 | William Tisdale, ph. 414-278-1240, fx. 414-278-8033 | 5 | 274,996.00
South Suburban Housing Center, 18220 Harwood Avenue, Suite 1, Homewood, IL 60430 | John Petruszak, ph. 708-957-4674, fx. 708-957-4761 | 5 | 262,500.00
Family Housing Advisory Services, Inc., 2410 Lake Street, Suite 200, Omaha, NE 68111 | Teresa Hunter, ph. 402-934-6657, fx. 402-934-7928 | 7 | 275,000.00
Silver State Fair Housing Council, 855 E. Fourth Street, Suite E, Reno, NV 89512 | Katherine Copeland, ph. 775-324-0990, fx. 775-324-7507 | 9 | 203,629.00
Fair Housing Center of South Puget Sound, 1517 South Fawcett, Suite 250, Tacoma, WA 98402 | Lauren Walker, ph. 253-274-9523, fx. 253-274-8220 | 10 | 275,000.00
Private Enforcement Initiative/Performance Based Component FY2006
Fair Housing Council of New York, Inc., 327 W. Fayette Street, Suite 408, Syracuse, NY 13202 | Merrilee Witherell, ph. 315-471-0420, fx. 315-471-0549 | 2 | 211,346.00
Long Island Housing Services, Inc., 3900 Veterans Memorial Highway, Bohemia, NY 11761 | Michelle Santantonio, ph. 531-467-5111, fx. 531-467-5131 | 2 | 270,417.00
South Brooklyn Legal Services, Inc., 105 Court Street, Brooklyn, NY 11201 | Josh Zinner, ph. 718-237-5567, fx. 718-855-0733 | 2 | 183,333.00
Central Alabama Fair Housing Center, 1817 West Second Street, Montgomery, AL 36106 | Faith Cooper, ph. 334-263-4663, fx. 334-263-4664 | 4 | 274,000.00
Fair Housing Center of Northern Alabama, 1728 3rd Avenue North 400C, Birmingham, AL 35203 | Lila Hackett, ph. 205-324-0111 | 4 | 275,000.00
Chicago Lawyers Committee for Civil Rights Under Law, 100 North LaSalle Street, Suite 600, Chicago, IL 60602 | Gaylene Henry, ph. 312-630-9744, fx. 312-630-1127 | 5 | 274,994.00
Fair Housing Opportunities, Inc. dba, Fair Housing Center, 432 North Superior, Toledo, OH 43604 | Michael Marsh ph. 419-243-6163, fx. 419-243-6163 | 5 | 275,000.00
John Marshall Law School, 315 South Plymouth Court, Chicago, IL 60604 | Michael Seng, ph. 312-987-2397, fx. 312-427-9438 | 5 | 274,958.00
Bay Area Legal Aid, 405 4th Street, 9th Floor, Oakland, CA 94612 | Jaclyn Pinero, ph. 510-250-5229 | 9 | 275,000.00
California Rural Legal Assistance, Inc., 631 Howard Street, Suite 300, San Francisco, CA 94105 | Ilene Jacobs, ph. 530-742-7235, fx. 530-742-0854 | 9 | 275,000.00
Project Sentinel, Inc., 430 Sherman Avenue, Suite 308, Palo Alto, CA 94306 | Ann Marquart, ph. 650-321-6291, fx. 650-321-4173 | 9 | 270,000.00
Southwest Fair Housing Council, 2030 Broadway Boulevard, Suite 101, Tucson, AZ 85719 | Richard Rhey, ph. 520-798-1568, fx. 520-620-6796 | 9 | 270,144.00

[FR Doc. E7-556 Filed 1-16-07; 8:45 am]

BILLING CODE 4210-67-P